DEPARTMENT OF COMMERCE

International Trade Administration

[A-791-805]

Stainless Steel Plate in Coils From South Africa; Notice of Rescission of Antidumping Duty Administrative Review

AGENCY: Import Administration, International Trade Administration, Department of Commerce.

ACTION: Notice of rescission of antidumping duty administrative review.

SUMMARY: In response to a request by petitioners Allegheny Ludlum, AK Steel Corporation (formerly Armco, Inc.), J&L Specialty Steel, Inc., North American Stainless, Butler-Armco Independent Union, Zanesville Armco Independent Union, and the United Steelworkers of America, AFL-CIO/CLC, the Department of Commerce (the Department) is rescinding the administrative review of the antidumping duty order on stainless steel plate in coils from South Africa (A-791-805). This review covered one manufacturer/exporter of the subject merchandise to the United States during the period November 4, 1998 through April 30, 2000.

EFFECTIVE DATE: August 15, 2000.

FOR FURTHER INFORMATION CONTACT: Robert James at (202) 482-0649, Antidumping and Countervailing Duty Enforcement Group III, Import Administration, International Trade Administration, U.S. Department of Commerce, 14th Street and Constitution Avenue, NW, Washington, DC 20230.

SUPPLEMENTARY INFORMATION:

The Applicable Statute and Regulations

Unless otherwise indicated, all citations to the Tariff Act of 1930, as amended (the Tariff Act), are to the provisions effective January 1, 1995, the effective date of the amendments made to the Tariff Act by the Uruguay Round Agreements Act. In addition, unless otherwise indicated, all citations to the Department's regulations are to the current regulations codified at 19 CFR Part 351 (2000).

Background

The Department published an antidumping duty order on stainless steel plate in coils from South Africa on May 21, 1999 (64 FR 27756). On May 16, 2000, the Department published its notice of “Opportunity to Request Administrative Review” for the period November 4, 1998 through April 30, 2000 (65 FR 31141). On May 31, 2000, petitioners filed a request for review of Columbus Stainless Steel Company Ltd. and its affiliates (Columbus). On July 7, 2000, we published in the Federal Register a notice of initiation of this antidumping duty administrative review covering the period November 4, 1998 through April 30, 2000 (65 FR 41942).

On July 31, 2000, the petitioners withdrew their request for administrative review. Section 19 CFR 351.213 (d)(1) of the Department's regulations stipulates that the Secretary may permit a party that requests a review to withdraw the request not later than 90 days after the date of publication of the notice of initiation of the requested review. In this case petitioners have withdrawn their request for review within the 90 day period. No other interested party requested a review and we have received no other submissions regarding petitioner's withdrawal of their request for review. Therefore, we are terminating this review of the antidumping duty order in stainless steel plate in coils from South Africa.

This notice is published in accordance with section 751 of the Tariff Act and section 19 CFR 351.213 (d)(1) of the Department's regulations.

Dated: August 7, 2000.
Joseph A. Spetrini,
Deputy Assistant Secretary, Enforcement Group III.

[FR Doc. 00-20692 Filed 8-14-00; 8:45 am]

BILLING CODE 3510-DS-P